DEPARTMENT OF TRANSPORTATION

Federal Aviation Administration

Notice of Intent To Rule on Application (05-04-U-00-TEX) To Use a Passenger Facility Charge (PFC) at the Telluride Regional Airport, Submitted By the Telluride Regional Airport Authority, Telluride, CO

AGENCY: Federal Aviation Administration (FAA), DOT.

ACTION: Notice of intent to rule on application.

SUMMARY: The FAA proposes to rule and invites public comment on the application to use a PFC at the Telluride Regional Airport under the provisions of 49 U.S.C. 40117 and part 158 of the Federal Aviation Regulations (14 CFR 158).

DATES: Comments must be received on or before January 18, 2005.

ADDRESSES: Comments on this application may be mailed or delivered in triplicate to the FAA at the following address: Craig Sparks, Manager; Denver Airports District Office, DEN-ADO; Federal Aviation Administration; 26805 E. 68th Avenue, Suite 224; Denver Colorado 80249-6361.

In addition, one copy of any comments submitted to the FAA must be mailed or delivered to Mr. Richard W. Nuttall, Airport Manager, at the following address: Telluride Regional Airport, 1500 Last Dollar Road, Suite 1, Telluride, Colorado 81435.

Air Carriers and foreign air carriers may submit copies of written comments previously provided to the Telluride Regional Airport, under § 158.23 of part 158.

FOR FURTHER INFORMATION CONTACT: Mr. Christopher Schaffer, (303) 342-1258; Denver Airports District Office, DEN-ADO; Federal Aviation Administration; 26805 E. 68th Avenue, Suite 224; Denver, Colorado 80249-6361. The application may be reviewed in person at this same location.

SUPPLEMENTARY INFORMATION: The FAA proposes to rule and invites public comment on the application 05-04-U-00-TEX) to use PFC revenue at the Telluride Regional Airport, under the provisions of 49 U.S.C. 40117 and part 158 of the Federal Aviation Regulations (14 CFR part 158).

On December 10, 2004, the FAA determined that the application to use a PFC submitted by the Telluride Regional Airport Authority, was substantially complete within the requirements of § 158.25 of part 158. The FAA will approve or disapprove the application, in whole or in part, no later than March 12, 2005.

The following is a brief overview of the application.

Level of the Proposed PFC: $4.50.

Actual Impose Only Charge—Effective Date: April 1, 2002.

Proposed Charge—Expiration Date: December 31, 2007.

Total Requested for Use Approval: $215,000.

Brief Description of Proposed Project: Land acquisition.

Class or Classes of Air Carrier That the Public Agency Has Requested Not be Required To Collect PFC's: Air taxi operators filing FAA Form 1800-31.

Any person may inspect the application in person at the FAA office listed above under FOR FURTHER INFORMATION CONTACT and at the FAA Regional Airports Office located at: Federal Aviation Administration, Northwest Mountain Region, Airports Division, ANM-600, 1601 Lind Avenue SW., Suite 315, Renton, WA 98055-4056.

In addition, any person may, upon request, inspect the application, notice, and other documents germane to the application in person at the Telluride Regional Airport.

Issued in Renton, Washington on December 10, 2004.
David A. Field,
Manager, Planning, Programming and Capacity Branch, Northwest Mountain Region.

[FR Doc. 04-27693 Filed 12-16-04; 8:45 am]

BILLING CODE 4910-13-M